INTERNATIONAL TRADE COMMISSION

[Investigations Nos. 701-TA-428 and 731-TA-992-994 and 996-1005 (Preliminary)]

Oil Country Tubular Goods From Austria, Brazil, China, France, Germany, India, Indonesia, Romania, South Africa, Spain, Turkey, Ukraine, and Venezuela

Determinations

On the basis of the record ¹ developed in the subject investigations, the United States International Trade Commission determines, pursuant to sections 703(a) and 733(a) of the Tariff Act of 1930 (19 U.S.C. 1671b(a) and 19 U.S.C. 1673b(a)) (the Act), that there is no reasonable indication that an industry in the United States is materially injured or threatened with material injury, or that the establishment of an industry in the United States is materially retarded, by reason of imports of oil country tubular goods, provided for in subheadings 7304.21.30, 7301.21.60, 7304.29.10, 7304.29.20, 7304.29.30, 7304.29.40, 7304.29.50, 7304.29.60, 7305.20.20, 7305.20.40, 7305.20.60, 7305.20.80, 7306.20.10, 7306.20.20, 7306.20.30, 7306.20.40, 7306.20.60, and 7306.20.80 of the Harmonized Tariff Schedule of the United States, from Austria that are alleged to be subsidized by the Government of Austria and from Austria, Brazil, China, France, Germany, India, Indonesia, Romania, South Africa, Spain, Turkey, Ukraine, and Venezuela that are alleged to be sold at less than fair value (LTFV).²

¹ The record is defined in sec. 207.2(f) of the Commission's Rules of Practice and Procedure (19 CFR § 207.2(f)).

² Commissioner Lynn M. Bragg dissenting.

Background

On March 29, 2002, petitions were filed with the Commission and the Department of Commerce (Commerce) on behalf of IPSCO Tubulars, Inc., Camanche, IA; Koppel Steel Corp., Ambridge, PA; Lone Star Steel Co., Dallas, TX; Maverick Tube Corp., Chesterfield, MO; Newport Steel Corp., Newport, KY; and United States Steel Corp., Pittsburgh, PA, alleging that an industry in the United States is materially injured and threatened with material injury by reason of subsidized imports of oil country tubular goods from Austria and by reason of LTFV imports of the same product from Austria, Brazil, China, Colombia, France, Germany, India, Indonesia, Romania, South Africa, Spain, Turkey, Ukraine, and Venezuela.³ Accordingly, effective March 29, 2002, the Commission instituted the subject investigations. Petitioners withdrew their petition against Colombia on April 11, 2002, and Commerce did not initiate an investigation on this country. Accordingly, the Commission terminated its investigation concerning Colombia (Inv. No. 731-TA-995 (Preliminary)) on April 29, 2002 (Federal Register of May 8, 2002 (67 FR 30964)).

³ Lone Star does not join the petition with respect to Romania.

Notice of the institution of the Commission's investigations and of a public conference to be held in connection therewith was given by posting copies of the notice in the Office of the Secretary, U.S. International Trade Commission, Washington, DC, and by publishing the notice in the Federal Register of April 5, 2002 (67 FR 16437). The conference was held in Washington, DC, on April 19, 2002, and all persons who requested the opportunity were permitted to appear in person or by counsel.

The Commission transmitted its determinations in these investigations to the Secretary of Commerce on May 13, 2002. The views of the Commission are contained in USITC Publication 3511 (May 2002), entitled Oil Country Tubular Goods from Austria, Brazil, China, France, Germany, India, Indonesia, Romania, South Africa, Spain, Turkey, Ukraine, and Venezuela: Investigations Nos. 701-TA-428 and 731-TA-992-994 and 996-1005 (Preliminary).

By order of the Commission.
Marilyn R. Abbott,
Secretary.

[FR Doc. 02-12542 Filed 5-17-02; 8:45 am]

BILLING CODE 7020-02-P